FEDERAL COMMUNICATIONS COMMISSION

Waiver of Filing Deadline Due to Adverse Weather Conditions

February 16, 2010.

AGENCY: Federal Communications Commission.

ACTION: Notice.

SUMMARY: Due to adverse weather conditions, the Federal Communications Commission closed early on Friday, February 5, and closed for business Monday, February 8 through Thursday, February 11, 2010. In recognition of the numerous closings and disruptions caused by the weather in the Washington, DC area, all paper and electronic filings that were due on February 5 through February 12 are now due on February 16, 2010.

DATES: All paper and electronic filings that were due on February 5th through February 12th are now due on February 16th.

ADDRESSES: Federal Communications Commission, 445 12th Street, SW.

FOR FURTHER INFORMATION CONTACT: Geraldine Taylor, (202) 418-0300.

Marlene H. Dortch,
Secretary, Federal Communications Commission.

[FR Doc. 2010-3514 Filed 2-23-10; 8:45 am]

BILLING CODE M